DEPARTMENT OF HOUSING AND URBAN DEVELOPMENT

[Docket No. FR-5041-N-29]

Notice of Proposed Information Collection: Comment Request Federally Assisted Low-Income Housing Drug Elimination Grant Program

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: September 29, 2006.

ADDRESSES: Interested persons are invited to submit comments regarding this proposal. Comments should refer to the proposal by name and/or OMB Control Number and should be sent to: Lillian Deitzer, Reports Management Officer, Department of Housing and Urban Development, 451 7th Street, SW., L'Enfant Building, Room 8202, Washington, DC 20410.

FOR FURTHER INFORMATION CONTACT: For copies of the proposed forms and other available information contact Carissa Janis, Office of Housing Assistance and Grants Administration, by telephone at 202-708-3000 extension 2487. (This is not a toll-free number.)

SUPPLEMENTARY INFORMATION: The Department is submitting the proposed information collection to OMB for review, as required by the Paperwork Reduction Act of 1995 (44 U.S.C. Chapter 35, as amended).

The Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Federally Assisted Low-Income Housing Drug Elimination Grant Program.

OMB Control Number: 2502-0476.

Description of the need for the information and proposed use: The Department will use program-end Performance Reports to determine how well grant funds were used in meeting stated program goals and in fighting drug-related crime and drug abuse. Grantees will also be able to evaluate their efforts through the completion of this report and will have data and evidence of program effectiveness available for both their future use and that of the public. HUD will use the Financial Status report and the Payment Voucher to monitor use of grant funds for eligible activities over the term of the grant. The Grantee may similarly use these forms to track and record their requests for payment reimbursement for grant-funded activities.

Agency Form Numbers, if applicable: Standard Form 269-A, Financial Status Report, HUD-50080-DF2B, Line of Credit Control System (LOCCS)/ Voice Response System (VRS) Drug Elimination Payment Voucher.

Estimation of the total numbers of hours needed to prepare the information collection including number of respondents, frequency of response, and hours of response: The estimated number of respondents is 37, the total annual responses are 259, the total annual hours of response are estimated at 481, and the response time varies from fifteen minutes to eight hours.

Status of the proposed information collection: This is an extension of a currently approved collection.

Authority: The Paperwork Reduction Act of 1995, 44 U.S.C., Chapter 35, as amended.

Dated: July 24, 2006.
Frank L. Davis,
General Deputy Assistant Secretary for Housing—Deputy Federal Housing Commissioner.

[FR Doc. 06-6564 Filed 7-28-06; 8:45 am]

BILLING CODE 4120-67-M